DEPARTMENT OF THE INTERIOR

Bureau of Reclamation

Agency Information Collection; Proposed Revisions to a Currently Approved Information Collection; Comment Request

AGENCY: Bureau of Reclamation, Interior.

ACTION: Notice of renewal of a currently approved collection (OMB No. 1006-0006).

SUMMARY: In accordance with the Paperwork Reduction Act of 1995 (44 U.S.C. 3501 et seq.), the Bureau of Reclamation (we, our, or us) intends to submit a request for renewal (with revisions) of an existing approved information collection to the Office of Management and Budget (OMB): Certification Summary Form, Reporting Summary Form for Acreage Limitation, 43 CFR part 426 and 43 CFR part 428, OMB Control Number: 1006-0006. This information collection is required under the Reclamation Reform Act of 1982 (RRA), Acreage Limitation Rules and Regulations, 43 CFR part 426, and Information Requirements for Certain Farm Operations In Excess of 960 Acres and the Eligibility of Certain Formerly Excess Land, 43 CFR part 428. We request your comments on the revised RRA forms and specific aspects of the information collection.

DATES: Your written comments must be received on or before April 4, 2005.

ADDRESSES: You may send written comments to the Bureau of Reclamation, Attention: D-5300, P.O. Box 25007, Denver, CO 80225-0007. You may request copies of the proposed revised forms by writing to the above address or by contacting Stephanie McPhee at: (303) 445-2897.

FOR FURTHER INFORMATION CONTACT: Stephanie McPhee at: (303) 445-2897.

SUPPLEMENTARY INFORMATION: Title: Certification Summary Form, Reporting Summary Form for Acreage Limitation, 43 CFR part 426 and 43 CFR part 428.

Abstract: These forms are to be used by district offices to summarize individual landholder (direct or indirect landowner or lessee) and farm operator certification and reporting forms as required by the RRA, 43 CFR part 426, and 43 CFR part 428. This information allows us to establish water user compliance with Federal reclamation law.

Changes to the RRA Forms and the Instructions to Those Forms

The changes made to the current Form 7-21SUMM-C, Form 7-21SUMM-R, and the corresponding instructions clarify the completion instructions for these forms (for example, adding verbiage to specify when requested acreages are to be provided on a westwide or district-specific basis). Other changes to the forms and the corresponding instructions are editorial in nature and are designed to assist the respondents by increasing their understanding of the forms, and clarifying the instructions for use when completing the forms. The proposed revisions to the RRA forms will be effective in the 2006 water year.

Draft of a New Form

As part of Reclamation's ongoing acceptance of users' comments on the RRA forms, Reclamation has received a request to devise a way to more efficiently track limited recipients that hold less than 40 acres (i.e., those that are below the RRA forms submittal threshold and thus do not submit standard RRA forms) and the full-cost and excess land held by such limited recipients. In an effort to address this comment Reclamation has drafted a proposed new form, “Tabulation H of Limited Recipients That Hold Less Than 40 Acres, and Full-Cost Landholders and Excess Landowners That Are Below the RRA Forms Submittal Threshold.” The implementation of this proposed new form will be based on the public comments received and if implemented, will be effective in the 2006 water year as a mandatory part of the districts' annual submittal of Form 7-21SUMM-C and/or Form 7-21SUMM-R, as appropriate.

Frequency: Annually.

Respondents: Contracting entities that are subject to the acreage limitation provisions of Federal reclamation law.

Estimated Total Number of Respondents: 248.

Estimated Number of Responses per Respondent: 1.25.

Estimated Total Number of Annual Responses: 310.

Estimated Total Annual Burden on Respondents: 12,400 hours.

Estimate of Burden for Each Form:

Form number | Burden estimate per form (in hours) | Number of respondents | Annual number of responses | Annual burden on respondents (in hours)
7-21SUMM-C and associated tabulation sheets | 40 | 195 | 244 | 9,760
7-21SUMM-R and associated tabulation sheets | 40 | 53 | 66 | 2,640

Comments

Comments are invited on:

(a) Whether the proposed collection of information is necessary for the proper performance of our functions, including whether the information will have practical use;

(b) Whether the proposed new Tabulation H is necessary for the proper performance of our functions, including whether the information will have practical use for the districts;

(c) The accuracy of our burden estimate for the proposed collection of information;

(d) Ways to enhance the quality, usefulness, and clarity of the information to be collected; and

(e) Ways to minimize the burden of the collection of information on respondents, including the use of automated collection techniques or other forms of information technology.

We will summarize all comments received regarding this notice. We will publish that summary in the Federal Register when the information collection request is submitted to OMB for review and approval.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 14, 2005.
Roseann Gonzales,
Director, Office of Program and Policy Services, Denver Office.

[FR Doc. 05-1791 Filed 1-31-05; 8:45 am]

BILLING CODE 4310-MN-P